DEPARTMENT OF TRANSPORTATION

National Highway Traffic Safety Administration

Reports, Forms, and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on April 27, 2007 (72 FR 21068-21069).

DATES: Comments must be submitted on or before January 16, 2008.

ADDRESSES: Send comments, within 30 days, to the Office of Information and Regulatory Affairs, Office of Management and Budget, 725-17th Street, NW., Washington, DC 20503, Attention: NHTSA Desk Officer.

FOR FURTHER INFORMATION CONTACT: Alan Block at the National Highway Traffic Safety Administration, Office of Behavioral Safety Research (NTI-131), 202-366-6401, 1200 New Jersey Avenue, SE., Washington, DC 20590.

SUPPLEMENTARY INFORMATION:

National Highway Traffic Safety Administration

Title: 2008 National Survey of Drinking and Driving Attitudes and Behavior.

OMB Number: 2127-New.

Type of Request: New information collection requirement.

Abstract: The National Survey of Drinking and Driving Attitudes and Behavior is conducted on a periodic basis for the National Highway Traffic Safety Administration to obtain a status report on attitudes, knowledge, and self-reported behavior related to alcohol-impaired driving. It is a national telephone survey administered to a randomly selected sample of approximately 6,000 persons age 16 and older. Topics covered by the survey include drinking behavior, drinking and driving behavior, avoidance of drinking and driving, use of a designated driver, preventing others from drinking and driving, perceived risks to drinking and driving, perceptions and attitudes about enforcement of drinking and driving laws, knowledge of legal BAC limits, and perceived effectiveness of intervention strategies. The proposed survey is the eighth in the series, which began in 1991. The 2008 survey will repeat many of the questions included in the preceding surveys in order to monitor change over time. The survey will also include new questions that address emergent issues in the area of drinking and driving. The data will be applied to strategic planning to combat the drinking and driving problem, and provide guidance to current programs.

Affected Public: Randomly selected members of the general public aged sixteen and older in telephone households.

Estimated Total Annual Burden: 2,006 hours (18 pretest interviews averaging 20 minutes per interview, followed by 6,000 interviews averaging 20 minutes per interview administered to the final survey sample).

Comments Are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Authority: 44 U.S.C. 3506(c)(2)(A).

Issued on: December 12, 2007.
Marilena Amoni,
Associate Administrator, Research and Program Development.

[FR Doc. E7-24379 Filed 12-14-07; 8:45 am]

BILLING CODE 4910-59-P